DEPARTMENT OF ENERGY

Federal Energy Regulatory Commission

[Project No. 3442-029]

City of Nashua, New Hampshire; Notice of Waiver Period for Water Quality Certification Application

On January 22, 2024, City of Nashua submitted to the Federal Energy Regulatory Commission (Commission) a copy of its application for a Clean Water Act section 401(a)(1) water quality certification filed with New Hampshire Department of Environmental Services (New Hampshire DES), in conjunction with the above captioned project. Pursuant to 40 CFR 121.6 and section 4.34(b)(5) of the Commission's regulations,¹ we hereby notify the New Hampshire DES of the following:

¹ 18 CFR 4.34(b)(5).

Date of Receipt of the Certification Request: January 22, 2024

Reasonable Period of Time to Act on the Certification Request: One year (January 22, 2025)

If New Hampshire DES fails or refuses to act on the water quality certification request on or before the above date, then the agency certifying authority is deemed waived pursuant to section 401(a)(1) of the Clean Water Act, 33 U.S.C. 1341(a)(1).

Dated: March 19, 2024.
Debbie-Anne A. Reese,
Acting Secretary.

[FR Doc. 2024-06258 Filed 3-22-24; 8:45 am]

BILLING CODE 6717-01-P